DEPARTMENT OF HOMELAND SECURITY

Coast Guard

33 CFR Part 117

[Docket No. USCG-2012-0292]

Drawbridge Operation Regulations; James River, Hopewell, VA

AGENCY: Coast Guard, DHS.

ACTION: Notice of temporary deviation from regulations.

SUMMARY: The Coast Guard has issued a temporary deviation from the operating schedule that governs the SR 156/Benjamin Harrison Memorial Bridge, at mile 65.0, across the James River, at Hopewell, VA. This deviation is necessary to facilitate mechanical repairs to the vertical lift span. The deviation allows the drawbridge to remain in the closed to navigation position.

DATES: This deviation is effective from 8 a.m. to 4 p.m. on May 8, 2012.

ADDRESSES: Documents mentioned in this preamble as being available in the docket USCG-2012-0292 and are available online by going to http://www.regulations.gov, inserting USCG-2012-0292 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renee V. Wright, Program Manager, Docket Operations, (202) 366-9826.

SUPPLEMENTARY INFORMATION: The Virginia Department of Transportation, who owns and operates this vertical-lift type bridge, has requested a temporary deviation from the current operating regulations to facilitate structural repairs.

Under the regular operating schedule, the SR 156/Benjamin Harrison Memorial Bridge, at mile 65.0, across the James River, at Hopewell, VA opens on signal as required by 33 CFR 117.5 and has vertical clearances in the full open and closed positions of 145 feet and 50 feet above mean high water, respectively.

Under this temporary deviation, the drawbridge will be maintained in the closed to navigation position to facilitate repairs to the skew couplings that keep the vertical lift portion of the bridge balanced. The lift span will be closed to vessels from 8 a.m. to 4 p.m., on Tuesday, May 8, 2012. The bridge will be unable to open for emergencies.

The James River caters to a variety of vessels from freighters to tug and barge traffic to recreational vessels. The Coast Guard has carefully coordinated the restrictions with commercial and recreational waterway users. Additionally, the Coast Guard will inform unexpected users of the waterway through our Local and Broadcast Notice to Mariners of the closure period for the bridge so that vessels can arrange their transits to minimize any impacts caused by the temporary deviation.

In accordance with 33 CFR 117.35(e), when applicable the draw must return to its original operating schedule immediately at the end of the designated time period. This deviation from the operating regulations is authorized under 33 CFR 117.35.

Dated: April 18, 2012.
Waverly W. Gregory, Jr.,
Bridge Program Manager, Fifth Coast Guard District.

[FR Doc. 2012-10418 Filed 4-30-12; 8:45 am]

BILLING CODE 9110-04-P